ENVIRONMENTAL PROTECTION AGENCY

[FRL-7581-4]

Agency Information Collection Activities OMB Responses

AGENCY: Environmental Protection Agency (EPA).

ACTION: Notices.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 1428.06; Trade Secret Claims for Emergency Planning and Community Right-to-Know (EPCRA Section 322); was approved 10/10/2003; in 40 CFR part 350; OMB Number 2050-0078; expires 10/31/2006.

EPA ICR No. 1969.02; NESHAP for Miscellaneous Organic Chemical Manufacturing; was approved 10/02/2003; in 40 CFR part 63, subpart FFFF; OMB Number 2060-0533; expires 10/31/2006.

EPA ICR No. 1894.04; NESHAP for Secondary Aluminum Production; was approved 09/25/2003; in 40 CFR part 63, subpart RRR; OMB Number 2060-0433; expires 09/30/2006.

EPA ICR No. 2055.01; Data Submission for Voluntary Children's Chemical Evaluation Program (VCCEP); was approved 09/25/2003; OMB Number 2070-0165; expires 09/30/2006.

EPA ICR No. 2109.01; Seven County Study of Air Quality and Birth Defects: Computer-Assisted Telephone Questionnaire for Subset of Study Population; was approved 09/30/2003; OMB Number 2080-0069; expires 09/30/2006.

EPA ICR No. 1712.04; NESHAP for Shipbuilding and Ship Repair Facilities (Surface Coating); was approved 09/22/2003; in 40 CFR part 63, subpart II; OMB Number 2060-0330; expires 09/30/2006.

EPA ICR No. 1896.04; Disinfectants/Disinfection by-Products, Chemical and Radionuclides Rules: Lead and Copper Rule Amendment; was approved 10/17/2003; OMB Number 2040-0204; expires 12/31/2004.

Short Term Extensions

EPA ICR No. 0276.11; Application for Experimental Use Permit (EUP) to Ship and Use a Pesticide for Experimental Purposes Only; OMB Number 2070-0040; on 09/29/2003 OMB extended the expiration date through 12/31/2003.

EPA ICR No. 1249.06; Recordkeeping for Certified Applicators Using 1080 Collars for Livestock Protection; OMB Number 2070-0074; on 09/29/2003 OMB extended the expiration date through 12/31/2003.

EPA ICR No. 1912.01; Information Collection Request: National Primary Drinking Water Regulation for Lead and Copper (Final Rule); in 40 CFR 141.80-141.91; OMB Number 2040-0210; on 09/30/2003 OMB extended the expiration date through 12/31/2003.

EPA ICR No. 1916.01; Emission Defect Information and Voluntary Emission Recall Reports for On-Highway, Light-Duty Vehicles; OMB Number 2060-0425; on 09/26/2003 OMB changed the expiration date to 09/30/2003.

EPA ICR No. 1761.03; Regulations for a Voluntary Emissions Standards Program Applicable to Manufacturers of Light-Duty Vehicles and Trucks Beginning in Model Year 1997; in 40 CFR 86.1700; OMB 2060-0345; on 09/26/2003 OMB changed the expiration date to 09/30/2003.

EPA ICR No. 1912.01; Information Collection Request: National Primary Drinking Water Regulation for Lead and Copper (Final Rule); OMB Number 2040-0210; on 10/17/2003 OMB change the expiration date to 10/31/2003.

Notice of Transfer

EPA ICR No. 2057.01; Eliciting Risk Tradeoffs for Valuing Fatal Cancer Risks; OMB changed the OMB control number from 2060-0502 to 2090-0022 on 04/02/2003

Dated: October 22, 2003.
Doreen Sterling,
Acting Director, Collection Strategies Division.

[FR Doc. 03-27480 Filed 10-30-03; 8:45 am]

BILLING CODE 6560-50-P